Proclamation 7724 of October 18, 2003

National Character Counts Week, 2003

By the President of the United States of America

A Proclamation

Many of our society's most cherished values, such as equal treatment for fellow citizens and respect for the law, depend in practice on individual character. During National Character Counts Week, we recognize the importance that good character has played in our history, celebrate the great character exhibited by our citizens, and reaffirm our commitment to promoting the values that will ensure a better future for all.

Throughout history, we see numerous examples of character in action. Great social reformers like Harriet Tubman, Frederick Douglass, and Susan B. Anthony demonstrated courage and resolve when they stood firm in the face of injustice and acted to right societal wrongs. Similarly, leaders like Abraham Lincoln and Franklin Roosevelt, were able to guide our Nation through critical periods because of their strong personal convictions and sense of moral clarity. Today, these and other heroes of history inspire us to pursue virtue and character in our own lives.

Since the terrorist attacks of September 11, 2001, we have seen the great character of our Nation in the hearts and souls of our citizens and soldiers, and in countless acts of kindness, generosity, and sacrifice. To sustain this spirit and continue to improve our society, we must promote a culture of service, citizenship, and responsibility in our Nation. Through the USA Freedom Corps, my Administration is offering opportunities for citizens to give back to their communities, helping millions of Americans meet vital needs as active and engaged citizens in our democratic society.

The development of character and citizenship has always been a primary goal of America's schools. Today, it is more important than ever that we educate our young people to be knowledgeable, compassionate, and involved citizens of a free society. Since 2002, 47 State education agencies and local school districts have received grants to implement character education programs. These grants help schools work with students, parents, and community organizations to effectively teach universal values such as respect, honesty, and tolerance.

This week, I urge all Americans to join me in promoting good character in America. By teaching these values to our children and living by these values in our own lives, we can build a future of hope, compassion, and opportunity for all.

NOW, THEREFORE, I, GEORGE W. BUSH, President of the United States of America, by virtue of the authority vested in me by the Constitution and laws of the United States, do hereby proclaim October 19 through October 25, 2003, as National Character Counts Week. I call upon public officials, educators, librarians, parents, students, and all the people of the United States to observe this week with appropriate ceremonies, activities, and programs.

IN WITNESS WHEREOF, I have hereunto set my hand this eighteenth day of October, in the year of our Lord two thousand three, and of the Independence of the United States of America the two hundred and twenty-eighth.

B

[FR Doc. 03-26831

Filed 10-21-03; 9:20 am]

Billing code 3195-01-P